DEPARTMENT OF THE INTERIOR

Bureau of Land Management

[AZAR 08106]

Public Land Order No. 7569; Partial Revocation of Public Land Order No. 1349; Arizona

AGENCY: Bureau of Land Management, Interior.

ACTION: Public land order.

SUMMARY: This order partially revokes a public land order insofar as it affects 40 acres of National Forest System land. The withdrawal is no longer needed for the Old Pinal CCC Camp. The land will be opened to mining and to such forms of disposition as may by law be made of National Forest System lands.

EFFECTIVE DATE: July 3, 2003.

FOR FURTHER INFORMATION CONTACT: Cliff Yardley, BLM Arizona State Office, 222 North Central Avenue, Phoenix, Arizona 85004-2203, 602-417-9437.

SUPPLEMENTARY INFORMATION: The Forest Service has determined that the Old Pinal CCC Camp land no longer needs to be withdrawn and has requested the revocation.

Order

By virtue of the authority vested in the Secretary of the Interior by Section 204 of the Federal Land Policy and Management Act of 1976, 43 U.S.C. 1714 (1994), it is ordered as follows:

1. Public Land Order No. 1349, which withdrew National Forest System land for administrative sites, is hereby revoked insofar as it affects the following described land:

Tonto National Forest

Gila and Salt River Meridian

Old Pinal CCC Camp

T. 1 S., R. 14 E.,

Sec. 22, SW¼SE¼.

The area described contains 40 acres.

2. At 10 a.m. on July 3, 2003, the land shall be opened to such forms of disposition as may by law be made of National Forest System land, including location and entry under the United States mining laws, subject to valid existing rights, the provisions of existing withdrawals, other segregations of record, and the requirements of applicable law. Appropriation of land described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: May 2, 2003.
Rebecca W. Watson,
Assistant Secretary—Land and Minerals Management.

[FR Doc. 03-13774 Filed 6-2-03; 8:45 am]

BILLING CODE 3410-11-P